ENVIRONMENTAL PROTECTION AGENCY

[FRL-6922-3]

Agency Information Collection Activities: Submission for OMB Review; Comment Request; Performance Evaluation Studies on Water and Wastewater Laboratories

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Performance Evaluation Studies on Water and Wastewater Laboratories, EPA ICR No. 0234.07, OMB Control No. 2080-0021: currently expiring December 31, 2000. The ICR describes the nature of the information collection and its expected burden and cost; where appropriate, it includes the actual data collection instrument.

DATES: Comments must be submitted on or before January 25, 2001.

ADDRESSES: Send comments, referencing EPA ICR No. 0234.07 and OMB Control No. 2080-0021, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202)260-2740, by email at farmer.sandy@epamail.epa.gov, or download off the Internet at http://www.epa.gov/icr and refer to EPA ICR No. 0234.07. For technical questions about the ICR contact Ray Wesselman at (513) 569-7194.

SUPPLEMENTARY INFORMATION: Title: Performance Evaluation studies on Water and Wastewater Laboratories (OMB Control No. 2080-0021; EPA ICR No. 0234.07). This is a request for extension of a currently approved collection expiring December 31, 2000.

Abstract: The EPA receives analytical results on drinking waters and wastewaters from a variety of laboratories and must rely on these data as a primary basis of its regulatory decisions. As a consequence, it had become desirable to have an objective demonstration that the contributing laboratories are capable of producing valid data. The subject Performance Evaluation Studies are designed to fulfill this need to document and improve the quality of analytical data from certain critical analyses within drinking water, major point-source discharge and ambient water quality samples. Participation in Water Pollution (WP) studies that relate to wastewater analyses, and Water Supply (WS) studies that relate to drinking water analyses, is only mandated by the EPA for those laboratories that receive federal funds to do such analyses; however successful performance in these studies is often required by states that certify laboratories for drinking water and wastewater analyses. Participation in the Discharge Monitoring Report—Quality Assurance (DMR-QA) studies is mandatory for those designed wastewater discharges who are doing self-monitoring analyses required under a National Pollutant Discharge Elimination System (NPDES) permit.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 29, 2000 (65 FR 16589); no comments were received.

Burden Statement: The annual public reporting and record-keeping burden for this collection of information is estimated to average 10.3 hours per response. Burden means the total time, effort, or financial resources expended by persons to generate, maintain, retain, or disclose or provide information to or for a Federal agency. This includes the time needed to review instructions; develop, acquire, install , and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

Respondents/Affected Entities: Wastewater labs, NPDES permittees and toxicity labs, and water chemistry microbiological labs.

Estimated Number of Respondents: 23,430.

Frequency of Response: Annual.

Estimated Total Annual hour Burden: 241,619 hours.

Estimated Total Annualized Capital, O&M Cost Burden: $0.

Send comments on the Agency's need for this information, the accuracy of the provided burden estimates, and any suggested methods for minimizing respondent burden, including through the use of automated collection techniques to the addresses listed above. Please refer to EPA ICR No. 0234.07 and OMB Control No. 2080-0021 in any correspondence.

Dated: December 18, 2000.
Oscar Morales,
Director, Collection Strategies Division.

[FR Doc. 00-32847 Filed 12-22-00; 8:45 am]

BILLING CODE 6560-50-P